NATIONAL ARCHIVES AND RECORDS ADMINISTRATION

[NARA-22-0022; NARA-2023-002]

Records Schedules; Availability and Request for Comments; Correction

AGENCY: National Archives and Records Administration (NARA).

ACTION: Notice; correction.

SUMMARY: On October 12, 2022, the National Archives and Records Administration (NARA) published a Federal Register notice that made record schedules available for comment. The docket number on the notice is incorrect.

DATES: The document published at 87 FR 61631 on October 12, 2022. The original comment due date of 11/28/2022 remains the same.

FOR FURTHER INFORMATION CONTACT: Kimberly Richardson, Strategy and Performance Division, by email at regulation_comments@nara.gov or at 301-837-2902. For information about records schedules, contact Records Management Operations by email at request.schedule@nara.gov or by phone at 301-837-1799.

SUPPLEMENTARY INFORMATION:

Correction

In the Federal Register of October 12, 2022, in 87 FR 61631, FR Doc #2022-22136, on page 61631, in the second column, correct the docket number in the header to read: [NARA-22-0022; NARA-2023-002].

Laurence Brewer,
Chief Records Officer for the U.S. Government.

[FR Doc. 2022-23024 Filed 10-27-22; 8:45 am]

BILLING CODE 7515-01-P